DEPARTMENT OF STATE

[Public Notice 8506]

60-Day Notice of Proposed Information Collection: Form DS-3057, Medical Clearance Update

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 30, 2013.

ADDRESSES: You may submit comments by any of the following methods:

• Web: Persons with access to the Internet may use the Federal Docket Management System (FDMS) to comment on this notice by going to www.Regulations.gov. You can search for the document by entering “Public Notice 8506” in the Search bar. If necessary, use the Narrow by Agency filter option on the Results page.

• Email: summerssb@state.gov.

• Mail: Department of State, Office of Medical Clearances, SA-15 Room 400, 1800 North Kent St., Rosslyn, VA 22209.

• Fax: 703-875-4850.

You must include the DS form number (if applicable), information collection title, and the OMB control number in any correspondence.

FOR FURTHER INFORMATION CONTACT: Direct requests for additional information regarding the collection listed in this notice, including requests for copies of the proposed collection instrument and supporting documents, to Susan B. Summers, who may be reached on 703-875-5411 or at summerssb@state.gov.

SUPPLEMENTARY INFORMATION:

• Title of Information Collection: Medical Clearance Update.

• OMB Control Number: 1405-0131.

• Type of Request: Extension of a Currently Approved Collection.

• Originating Office: Office of Medical Services—Medical Clearances.

• Form Number: DS 3057.

• Respondents: Foreign service officers, federal employees, or family members.

• Estimated Number of Respondents: 16,280.

• Estimated Number of Responses: 16,280.

• Average Time Per Response: 30 minutes.

• Total Estimated Burden Time: 8,140 hours.

• Frequency: As needed.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Form DS-3057 is designed to collect medical information to provide medical providers with current and adequate information to base decisions on whether a federal employee and family members will have sufficient medical resources at a diplomatic mission abroad to maintain the health and fitness of the individual and family members.

Methodology:

The information collected will be collected through the use of an electronic forms engine or by hand written submission using a pre-printed form.

Dated: October 16, 2013.
Ernest E. Davis,
Director of Medical Clearances, Office of Medical Services, Department of State.

[FR Doc. 2013-25619 Filed 10-28-13; 8:45 am]

BILLING CODE 4710-02-P